U.S.-CHINA ECONOMIC AND SECURITY REVIEW COMMISSION

Notice of Open Public Meetings

AGENCY: U.S.-China Economic and Security Review Commission.

ACTION: Notice of open public meetings.

SUMMARY: Notice is hereby given of meetings of the U.S.-China Economic and Security Review Commission to review and edit drafts of the 2019 Annual Report to Congress. The Commission is mandated by Congress to investigate, assess, and report to Congress annually on the “the national security implications of the economic relationship between the United States and the People's Republic of China.” Pursuant to this mandate, the Commission will hold public meetings to review and edit drafts of the 2019 Annual Report to Congress.

DATES: The meetings are scheduled for Thursday, July 11, 2019, from 9:00 a.m. to 5:00 p.m.; Thursday, August 1, 2019, from 9:00 a.m. to 5:00 p.m.; Thursday, September 5, 2019, from 9:00 a.m. to 5:00 p.m.; and Tuesday, October 1, 2019, from 9:00 a.m. to 5:00 p.m.

ADDRESSES: 444 North Capitol Street NW, Room 231, Washington, DC 20001. Public seating is limited and will be available on a “first-come, first-served” basis. Reservations are not required to attend the meetings.

FOR FURTHER INFORMATION CONTACT: Any member of the public seeking further information concerning these meetings should contact Kerry Sutherland, 444 North Capitol Street NW, Suite 602, Washington, DC 20001; telephone: 202-624-1454, or via email at ksutherland@uscc.gov. Reservations are not required to attend the meetings.

SUPPLEMENTARY INFORMATION: Purpose of Meeting: Pursuant to the Commission's mandate, members of the Commission will meet to review and edit drafts of the 2019 Annual Report to Congress. The Commission is subject to the Federal Advisory Committee Act (FACA) with the enactment of the Science, State, Justice, Commerce and Related Agencies Appropriations Act, 2006 that was signed into law on November 22, 2005 (Pub. L. 109-108). In accordance with FACA, the Commission's meetings to make decisions concerning the substance and recommendations of its 2019 Annual Report to Congress are open to the public.

Topics To Be Discussed: Editing and review sessions will cover material prepared for the 2019 Annual Report, including: A review of economics, trade, security and foreign affairs developments in 2019; China's internal and external challenges; artificial intelligence, new materials, and new energy; U.S. companies in China and Chinese companies in the U.S.; health and pharmaceuticals; China's ambitions to build a world class military; China-Russia relations; China's ambitions in space; Taiwan; Hong Kong; and changing regional dynamics.

Required Accessibility Statement: These meetings will be open to the public. The Commission may recess the meetings to address administrative issues in closed session. The Commission will also recess the meetings around noon for a lunch break. At the beginning of the lunch break, the Chairman will announce what time the meetings will reconvene.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: June 21, 2019.
Daniel W. Peck,
Executive Director, U.S.-China Economic and Security Review Commission.

[FR Doc. 2019-13633 Filed 6-25-19; 8:45 am]

BILLING CODE 1137-00-P